AGENCY FOR INTERNATIONAL DEVELOPMENT

Bureau for Democracy, Conflict and Humanitarian Assistance; Office of Food for Peace; Announcement of Draft Pub. L. 480 Title II Program Proposal Guidelines (FY06)

Notice

Pursuant to the Agricultural Trade Development and Assistance Act of 1954 (Public Law 480, as amended), notice is hereby given that the Draft Guidelines for Title II Program Proposals are being made available to interested parties for the required thirty (30) day comment period.

Individuals who wish to receive a copy of these draft guidelines should contact: Office of Food for Peace, Agency for International Development, RRB 7.06-153, 1300 Pennsylvania Avenue, Washington, DC 20523-7600. Individuals who have questions or comments on the draft guidelines should contact Carell Laurent at the above address, at (202) 712-1643 or claurent@usaid.gov.

The thirty-day comment period will begin on the date that this announcement is published in the Federal Register.

Dated: January 13, 2005.
Angelique Crumbly,
Chief, Policy and Technical Division, Office of Food for Peace, Bureau for Democracy, Conflict and Humanitarian Assistance.

[FR Doc. 05-1451 Filed 1-25-05; 8:45 am]

BILLING CODE 6116-01-P